DEPARTMENT OF HEALTH AND HUMAN SERVICES

Administration for Children and Families

Proposed Information Collection Activity; Comment Request

Title: Descriptive Study of County versus State Administered Temporary Assistance for Needy Families (TANF) Programs.

OMB No.: New Collection.

Description: The Administration for Children and Families (ACF) is proposing an information collection activity as part of the Descriptive Study of County and State Administered TANF Programs. The proposed information collection consists of semi-structured interviews with key County and State staff on questions of county TANF administration, policies, service delivery, and program context. Through this information collection, ACF seeks to gain an in-depth, systematic understanding of the differences in program implementation, operations, outputs and outcomes between state and county administered TANF programs, and identify special technical assistance needs of state supervised, county administered programs.

Respondents: Semi-structured interviews will be held with state and county TANF administrators and staff.

Annual Burden Estimates
Instrument | Annual number of respondents | Number of responses per respondent | Average burden hours per response | Annual burden hours
Discussion Guide for use with county TANF Administrators | 12 | 1 | 1.5 | 18
Discussion Guide for use with state TANF Administrators or program managers | 6 | 1 | 1 | 6
Discussion Guide for use with state human service department director or cabinet-level official | 6 | 1 | 1 | 6
Discussion Guide for use with county executives or county board members | 12 | 1 | 1 | 12
Discussion Guide for use with County TANF directors' associations, or similar organizations | 6 | 1 | 1.5 | 9
Estimated Total Annual Burden Hours: |  |  |  | 51

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hammer,
Reports Clearance Officer; Office of Planning, Research and Evaluation

[FR Doc. 2012-31714 Filed 1-7-13; 8:45 am]

BILLING CODE 4184-09-M